DEPARTMENT OF ENERGY

Federal Energy Regulatory Commission

Combined Notice of Filings

Take notice that the Commission has received the following Natural Gas Pipeline Rate and Refund Report filings:

Filings Instituting Proceedings

Docket Numbers: RP12-192-000.

Applicants: Algonquin Gas Transmission, LLC.

Description: ConEd 2011-12-01 Releases #2 to be effective 12/1/2011.

Filed Date: 11/30/11.

Accession Number: 20111130-5136.

Comments Due: 5 p.m. ET 12/12/11.

Docket Numbers: RP12-193-000.

Applicants: Gulf South Pipeline Company, LP.

Description: QEP 36601-8 Amendment to Negotiated Rate Agreement Filing to be effective 12/1/2011.

Filed Date: 11/30/11.

Accession Number: 20111130-5170.

Comments Due: 5 p.m. ET 12/12/11.

Docket Numbers: RP12-194-000.

Applicants: Mojave Pipeline Company, LLC.

Description: Mojave FL&U, to be effective 1/1/2012.

Filed Date: 11/30/11.

Accession Number: 20111130-5235.

Comments Due: 5 p.m. ET 12/12/11.

Docket Numbers: RP12-195-000.

Applicants: Colorado Interstate Gas Company LLC.

Description: Spruce Hill—Compliance Filing on Petition to Amend Certificate to be effective 1/1/2012.

Filed Date: 11/30/11.

Accession Number: 20111130-5237.

Comments Due: 5 p.m. ET 12/12/11.

Docket Numbers: RP12-196-000.

Applicants: Tennessee Gas Pipeline Company, LLC.

Description: Tennessee Gas Pipeline Company, LLC 2010-2011 Cashout Report.

Filed Date: 11/30/11.

Accession Number: 20111130-5243.

Comments Due: 5 p.m. ET 12/12/11.

Docket Numbers: RP12-197-000.

Applicants: Transcontinental Gas Pipe Line Company, LLC.

Description: Change in Gathering Rate to be effective 12/1/2011.

Filed Date: 11/30/11.

Accession Number: 20111130-5264.

Comments Due: 5 p.m. ET 12/12/11.

Docket Numbers: RP12-198-000.

Applicants: Chandeleur Pipe Line Company.

Description: Chandeleur Pipe Line Company's FLLA Tariff Filing to be effective 1/1/2012.

Filed Date: 11/30/11.

Accession Number: 20111130-5265.

Comments Due: 5 p.m. ET 12/12/11.

Docket Numbers: RP12-199-000.

Applicants: Northwest Pipeline GP.

Description: RP12-199-000 CHUB Non-Conforming Contracts—Marathon & WPX to be effective 1/1/2012.

Filed Date: 11/30/11.

Accession Number: 20111130-5311.

Comments Due: 5 p.m. ET 12/12/11.

Docket Numbers: RP12-200-000.

Applicants: Trailblazer Pipeline Company LLC.

Description: MIECO Negotiated Rate Filing to be effective 12/1/2011.

Filed Date: 11/30/11.

Accession Number: 20111130-5324.

Comments Due: 5 p.m. ET 12/12/11.

Docket Numbers: RP12-201-000.

Applicants: Kern River Gas Transmission Company.

Description: 2012 Period Two Rates to be effective 5/1/2012.

Filed Date: 12/1/11.

Accession Number: 20111201-5049.

Comments Due: 5 p.m. ET 12/13/11.

Docket Numbers: RP12-202-000.

Applicants: Northern Natural Gas Company.

Description: 20111201 Remove Non-Conforming Tariff Sections to be effective 1/1/2012.

Filed Date: 12/1/11.

Accession Number: 20111201-5070.

Comments Due: 5 p.m. ET 12/13/11.

Docket Numbers: RP12-203-000.

Applicants: Trailblazer Pipeline Company LLC.

Description: Submits tariff filing per 154.204: Negotiated Rate Filing—Concord to be effective 12/1/2011.

Filed Date: 12/1/11.

Accession Number: 20111201-5073.

Comments Due: 5 p.m. ET 12/13/11.

Docket Numbers: RP12-204-000.

Applicants: Trailblazer Pipeline Company LLC.

Description: Submits tariff filing per 154.204: Negotiated Rate Filing—Macquarie to be effective 12/1/2011.

Filed Date: 12/1/11.

Accession Number: 20111201-5074.

Comments Due: 5 p.m. ET 12/13/11.

Docket Numbers: RP12-205-000.

Applicants: Algonquin Gas Transmission, LLC.

Description: Submits tariff filing per 154.204: Negotiated Rates Dec2011 Cleanup to be effective 1/1/2012.

Filed Date: 12/1/11.

Accession Number: 20111201-5075.

Comments Due: 5 p.m. ET 12/13/11.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-2001-001.

Applicants: Cameron Interstate Pipeline, LLC.

Description: Cameron Interstate Pipeline Compliance Filing Nov 30 2011 to be effective 11/30/2011.

Filed Date: 11/30/11.

Accession Number: 20111130-5322.

Comments Due: 5 p.m. ET 12/12/11.

Docket Numbers: RP11-2569-002.

Applicants: Texas Gas Transmission, LLC.

Description: Compliance Filing in RP11-2569, et al. to be effective 11/1/2011.

Filed Date: 11/30/11.

Accession Number: 20111130-5169.

Comments Due: 5 p.m. ET 12/12/11.

Docket Numbers: RP11-2569-003.

Applicants: Texas Gas Transmission, LLC.

Description: Change to Compliance Filing in RP11-2569, et al. to be effective 11/1/2011.

Filed Date: 11/30/11.

Accession Number: 20111130-5213.

Comments Due: 5 p.m. ET 12/12/11.

Docket Numbers: RP12-175-001.

Applicants: Natural Gas Pipeline Company of America LLC.

Description: Amendment to EDF Trading's Negotiated Rate Filing to be effective 12/1/2011.

Filed Date: 11/30/11.

Accession Number: 20111130-5292.

Comments Due: 5 p.m. ET 12/12/11.

Docket Numbers: RP12-71-001.

Applicants: Williston Basin Interstate Pipeline Company.

Description: Compliance Filing—Negotiated Rate Discount Adjustment to be effective 11/28/2011.

Filed Date: 11/30/11.

Accession Number: 20111130-5156.

Comments Due: 5 p.m. ET 12/12/11.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: December 1, 2011.
Nathaniel J. Davis, Sr.
Deputy Secretary

[FR Doc. 2011-31388 Filed 12-6-11; 8:45 am]

BILLING CODE 6717-01-P